DEPARTMENT OF AGRICULTURE

Submission for OMB Review; Comment Request

June 30, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: Suggestions for Changes to NAL Agricultural Thesaurus Form.

OMB Control Number: 0518-0035.

Summary of Collection: The National Agricultural Thesaurus is a publication of the National Agricultural Library (NAL). The collection of suggestions for changes to the NAL Agricultural Thesaurus will provide Web site users with the opportunity to suggest the addition of new terminology of interest to them. The thesaurus staff will review each suggestion via a Proposal Review Board and provide feedback to the user.

Need and Use of the Information: Information to be submitted includes, user contact information (name, affiliation, e-mail, phone), the proposed changes to the thesaurus, the field of study or subject area of the term being proposed, justification for the change, and any reference material which the user would like to provide as background information. The information collected will help NAL thesaurus staff to make improvements to the content and organization of the thesaurus. Failure of the NAL thesaurus staff to collect this information would significantly inhibit public relations with their users.

Description of Respondents: Federal Government; Not-for-profit institutions; Business or other for-profit; State, local or tribal government.

Number of Respondents: 100.

Frequency of Responses: Reporting: On occasion.

Total Burden Hours: 17.

Ruth Brown,
Departmental Information Collection Clearance Officer.

[FR Doc. E6-10581 Filed 7-6-06; 8:45 am]

BILLING CODE 3410-03-P